DEPARTMENT OF THE INTERIOR

Bureau of Land Management

[LLIDB00100.19XL1109AF.L17110000.PH0000.LXSS024D0000.4500134782]

Notice of Public Meeting, Boise District Resource Advisory Council, Idaho

AGENCY: Bureau of Land Management, Interior.

ACTION: Notice of public meeting.

SUMMARY: In accordance with the Federal Land Policy and Management Act of 1976, the Federal Advisory Committee Act of 1972, and the Federal Lands Recreation Enhancement Act of 2004, the U.S. Department of the Interior, Bureau of Land Management (BLM) Boise District Resource Advisory Council (RAC) will meet as indicated below.

DATES: The Boise District RAC will meet Thursday, September 5, 2019.

ADDRESSES: The Boise District RAC will meet September 5, 2019, at the BLM Boise District Office, 3948 Development Avenue, Boise, ID 83705. The meeting will begin at 9:00 a.m. and end no later than 5:00 p.m. The public comment period will take place at 12:00 noon.

FOR FURTHER INFORMATION CONTACT: Mike Williamson, RAC Coordinator, Boise District, 3948 Development Avenue, Boise, ID 83705. Telephone: (208) 384-3393. Email: mwilliamson@blm.gov. Persons who use a telecommunications device for the deaf (TDD) may contact Mr. Williamson by calling the Federal Relay Service (FRS) at (800) 877-8339. The FRS is available 24 hours a day, seven days a week, to leave a message or question with Mr. Williamson. You will receive a reply during normal business hours.

SUPPLEMENTARY INFORMATION: The 15-member RAC advises the Secretary of the Interior through the BLM on a variety of planning and management issues associated with public land management in Idaho. The meeting agenda will include discussions of the Four Rivers, Bruneau and Owyhee Field Offices regarding livestock grazing, recreation, fuels projects, and the wild horse program. More information is available at https://www.blm.gov/get-involved/resource-advisory-council/near-you/Idaho/boise-district-RAC.

The meeting is open to the public. Persons wishing to make comments during the public comment period should register in person with the BLM by 11:00 a.m. on the meeting day, at the meeting location. Depending on the number of persons wishing to comment, the length of comments may be limited. The public may send written comments to the RAC at the BLM Boise District Office, 3948 Development Avenue, Boise, ID 83705.

Public Disclosure of Comments: Before including your address, phone number, email address, or other personal identifying information in your comment, you should be aware that your entire comment—including your personal identifying information—may be made publicly available at any time. While you can ask us in your comment to withhold your personal identifying information from public review, we cannot guarantee that we will be able to do so.

Individuals who plan to attend and need special assistance, such as sign language interpretation or other reasonable accommodations, should contact the BLM as provided above.

Authority: 43 CFR 1784.4-1.

Lara Douglas,
BLM Boise District Manager.

[FR Doc. 2019-17787 Filed 8-16-19; 8:45 am]

BILLING CODE 4310-GG-P